DEPARTMENT OF ENERGY

Federal Energy Regulatory Commission

[Docket No. RP03-580-000]

OkTex Pipeline Company; Notice of Annual Charge Adjustment

August 29, 2003.

Take notice that on August 27, 2003, OkTex Pipeline Company (OkTex) tendered for filing Tariff Sheets Nos. 5A and 5B to revise the Annual Charge Adjustment (ACA).

OkTex states that the purpose of the filing is to reflect the correct ACA surcharge of $0.0021 to OkTex's tariff rates for the period October 1, 2003 through September 30, 2004. OkTex explains that, during the previous 12 months, the ACA surcharge billed was $0.0021 per Dth, but due to a typographical error, the tariff sheets on file with the Commission reflected an inaccurate ACA surcharge of $0.022. This filing corrects the ACA rates inadvertently displayed on Tariff sheets 5A and 5B from .$0.0022 to $0.0021.

Any person desiring to be heard or to protest said filing should file a motion to intervene or a protest with the Federal Energy Regulatory Commission, 888 First Street, NE., Washington, DC 20426, in accordance with Sections 385.214 or 385.211 of the Commission's Rules and Regulations. All such motions or protests must be filed on or before the intervention and protest date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: September 9, 2003.

Magalie R. Salas,
Secretary.

[FR Doc. 03-22733 Filed 9-5-03; 8:45 am]

BILLING CODE 6717-01-P